DEPARTMENT OF COMMERCE

Foreign-Trade Zones Board

[B-40-2020]

Foreign-Trade Zone (FTZ) 83—Huntsville, Alabama; Authorization of Production Activity; Haier US Appliance Solutions, Inc. (Household Refrigerators), Decatur, Alabama

On June 18, 2020, Haier US Appliance Solutions, Inc., submitted a notification of proposed production activity to the FTZ Board for its facility within Subzone 83D in Decatur, Alabama.

The notification was processed in accordance with the regulations of the FTZ Board (15 CFR part 400), including notice in the Federal Register inviting public comment (85 FR 39163, June 30, 2020). On October 16, 2020, the applicant was notified of the FTZ Board's decision that no further review of the activity is warranted at this time. The production activity described in the notification was authorized, subject to the FTZ Act and the FTZ Board's regulations, including Section 400.14.

Dated: October 16, 2020.
Andrew McGilvray,
Executive Secretary.

[FR Doc. 2020-23273 Filed 10-20-20; 8:45 am]

BILLING CODE 3510-DS-P